FEDERAL COMMUNICATIONS COMMISSION

47 CFR Part 73

[DA 01-1481; MM Docket No. 01-67; RM-10084]

Radio Broadcasting Services; Abingdon and Canton, IL

AGENCY: Federal Communications Commission.

ACTION: Final rule.

SUMMARY: This document allots Channel 252A to Abingdon, Illinois, in response to a petition filed by Abingdon Broadcasters. See 66 FR 16900, March 28, 2001. The coordinates for Channel 252A at Abingdon are 40-42-28 NL and 90-19-47 WL. To accommodate the allotment at Abingdon we shall also substitute Channel 277A for vacant Channel 252A at Canton, Illinois. The coordinates for Channel 277A at Canton are 40-28-27 NL and 90-03-01 WL. A filing window for Channel 252A at Canton will not be opened at this time. Instead, the issue of opening this allotment for auction will be addressed by the Commission in a subsequent order.

DATES: Effective August 6, 2001.

FOR FURTHER INFORMATION CONTACT: Kathleen Scheuerle, Mass Media Bureau, (202) 418-2180.

SUPPLEMENTARY INFORMATION: This is a summary of the Commission's Report and Order, MM Docket No. 01-67, adopted June 13, 2001, and released June 22, 2001. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Illinois, is amended by adding Abingdon, Channel 252A and by removing Channel 252A and adding Channel 277A at Canton.

Federal Communications Commission.
John A. Karousos,
Chief, Allocations Branch, Policy and Rules Division, Mass Media Bureau.

[FR Doc. 01-17034 Filed 7-6-01; 8:45 am]

BILLING CODE 6712-01-P